DEPARTMENT OF ENERGY

Federal Energy Regulatory Commission

[Project No. 2067-021 California]

Oakdale and South San Joaquin Irrigation Districts; Notice of Availability of Environmental Assessment

August 13, 2004.

In accordance with the National Environmental Policy Act of 1969, as amended, and the Federal Energy Regulatory Commission's (Commission) regulations (18 CFR part 380), Commission staff have reviewed an application for non-project use of project lands and waters at the Tulloch Project (FERC No. 2067), and have prepared an Environmental Assessment (EA) on the application. The project is located on the Stanislaus River in Calaveras and Tuolumne Counties, California.

Specifically, the project licensees (Oakdale and South San Joaquin Irrigation Districts) have requested Commission approval to permit the County of Tuolumne and Joe McGrath to add and improve certain facilities at the Lake Tulloch Campground and Marina, located on Tulloch Lake, the project reservoir. In the EA, Commission staff have analyzed the probable environmental effects of the proposed marina improvements and have concluded that approval of the proposal, with appropriate environmental measures, would not constitute a major Federal action significantly affecting the quality of the human environment.

A copy of the EA is attached to a Commission order titled “Order Approving Non-project Use of Project Lands and Waters”, which was issued August 12, 2004 and is available for review in Public Reference Room 2-A of the Commission's offices at 888 First Street, NE., Washington, DC. The EA also may be viewed on the Commission's Web site http://www.ferc.gov using the “e-library” link. Enter the docket number (prefaced by­P-) and excluding the last three digits, in the docket number field to access the document. For assistance, contact FERC Online Support at FERCOnlineSupport@ferc.gov or toll-free at (866) 208-3676, or for TTY, contact (202) 502-8659, TTY (202) 208-8659.

Magalie R. Salas,
Secretary.

[FR Doc. E4-1876 Filed 8-19-04; 8:45 am]

BILLING CODE 6717-01-P